ELECTION ASSISTANCE COMMISSION

Sunshine Act Meeting

Date and Time: Wednesday, May 5, 2004, at 9 a.m.

Place: U.S. Environmental Protection Agency Headquarters, 1200 Pennsylvania Ave., NW., Room 3000, Rachel L. Carson Great Hall, Ariel Rios North Building, Washington, DC.

(Metro Riders: Take the Orange or Blue Line to Federal Triangle Metro Stop).

Status: This meeting will be open to the public.

Note: Early Arrival: Those attending are advised to arrive early for registration and security check.

Purpose: To conduct a public hearing on the present status of computerized electronic voting systems.

The Following Witness Panels Will Be Presented: Technology Panel, Vendor Panel, Election Administrator Panel, Research Panel and Advocacy Organization Panel.

FOR FURTHER INFORMATION CONTACT: Bryan Whitener, Telephone: (202) 566-3100.

DeForest B. Soaries, Jr.,
Chairman, U.S. Election Assistance Commission.

[FR Doc. 04-9304 Filed 4-20-04; 2:03 pm]

BILLING CODE 6820-01-M